DEPARTMENT OF THE TREASURY

Alcohol and Tobacco Tax and Trade Bureau

[Docket No. TTB-2018-0001]

Proposed Information Collection; Comment Request (No. 70) for Chemist Certification Program

AGENCY: Alcohol and Tobacco Tax and Trade Bureau, Treasury.

ACTION: Notice and request for comments.

SUMMARY: As part of our continuing effort to reduce paperwork and respondent burden, and as required by the Paperwork Reduction Act of 1995, the Alcohol and Tobacco Tax and Trade Bureau (TTB) invites comments on the proposed information collection associated with its chemist certification program.

DATES: Comments are due on or before September 17, 2018.

ADDRESSES: As described below, you may send comments on the proposed information collection using the “Regulations.gov” online comment form for this document, or you may send written comments via U.S. mail or hand delivery. TTB no longer accepts public comments via email or fax.

• https://www.regulations.gov: Use the comment form for this document posted within Docket No. TTB-2018-0001 on “Regulations.gov,” the Federal e-rulemaking portal, to submit comments via the internet;

• U.S. Mail: Michael Hoover, Regulations and Rulings Division, Alcohol and Tobacco Tax and Trade Bureau, 1310 G Street NW, Box 12, Washington, DC 20005.

• Hand Delivery/Courier in Lieu of Mail: Michael Hoover, Alcohol and Tobacco Tax and Trade Bureau, 1310 G Street NW, Suite 400, Washington, DC 20005.

Please reference the proposed information collection's title in your comment. You may view copies of this document and all comments received in response to this document within Docket No. TTB-2018-0001 at https://www.regulations.gov. A link to that docket is posted on the TTB website at https://www.ttb.gov/forms/comment-on-form.shtml. You may also obtain paper copies of this document and any comments received in response to this document by contacting Michael Hoover at the addresses or telephone number shown below.

FOR FURTHER INFORMATION CONTACT: Michael Hoover, Alcohol and Tobacco Tax and Trade Bureau, 1310 G Street NW, Box 12, Washington, DC 20005; telephone (202) 453-1039, ext. 135; or email informationcollections@ttb.gov (please do not submit comments on the proposed information collection to this email address).

SUPPLEMENTARY INFORMATION:

Request for Comments

As required by the Paperwork Reduction Act of 1995 (44 U.S.C. 3501 et seq.), the Department of the Treasury and its Alcohol and Tobacco Tax and Trade Bureau (TTB), as part of a continuing effort to reduce paperwork and respondent burden, invite the general public and other Federal agencies to comment on the proposed information collection associated with TTB's chemist certification program.

Comments submitted in response to this notice will be included or summarized in our request for Office of Management and Budget (OMB) approval of the proposed information collection. All comments are part of the public record and subject to disclosure. Please do not include any confidential or inappropriate material in comments.

In particular, we invite comments on: (a) Whether the information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Chemist Certification Information Collection

Currently, we are seeking comments on the following information collection:

Title: Applications, Notices, and Record Related to the Voluntary Chemist Certification Program for the Analysis of Wine, Distilled Spirits, and Beer for Export.

OMB Number: 1513-NEW.

Abstract: The TTB chemist certification program, established under the authority of section 105(e) of the Federal Alcohol Administration Act (FAA Act; 27 U.S.C. 205(e)), is a voluntary program that certifies private industry chemists to analyze alcohol beverages and report the results of specific chemical analyses on alcohol beverages to the governments of importing countries. As a condition of importation, some countries require that their own government laboratories (or laboratories certified by their government) perform these analyses, while other countries allow a person certified by the government of the exporting country to perform the analyses. TTB conducts its chemist certification program as a service to the alcohol beverage industry to facilitate the export of domestic alcohol beverage products. This certification program helps ensure that chemists, enologists, brewers, and technicians (referred to in this document collectively as “chemists”) generate quality data and have the required proficiencies to conduct chemical analyses associated with exportation of alcohol beverages from the United States.

The information collected under TTB's chemist certification program includes: Letterhead applications for chemist certification and supporting documentation such as copies of diplomas, transcripts, accreditation certificates, and laboratory verification statements; results of qualifying analyses of TTB-supplied alcohol beverage samples made by applicants; and miscellaneous letterhead applications and notices to TTB such as applications and supporting documents related to requests for certification in additional types of analysis, requests for TTB-affirmed reports of analysis, and notices of changes in employment place or status. TTB believes the burden associated with the application portion of this information collection is minimal and is the minimum necessary to ensure that certified chemists are professionally qualified to conduct analyses of alcohol beverages for export purposes.

Certified chemists also must retain, and allow TTB inspection of, records of all analysis results conducted under the authority of a TTB certificate, for a period of up to two years. In addition, the laboratories of certified chemists must retain for a similar period, and allow TTB inspection of, records related to laboratory equipment, laboratory quality control policies, procedures and systems, analyst training and competence, and analysis records pertaining to certified tests. TTB believes that the required records are usual and customary records that chemists and laboratories keep during the normal course of business, regardless of any TTB requirement to do so, and, as such, the keeping of such records imposes no additional burden on respondents.

Current Actions: TTB is submitting this new information collection for approval by the Office of Management and Budget.

Type of Review: Approval of new collection.

Affected Public: Individuals; businesses and other for-profits.

Estimated Number of Respondents: 310.

Estimated Total Annual Burden Hours: 495.

Dated: July 12, 2018.
Amy R. Greenberg,
Director, Regulations and Rulings Division.

[FR Doc. 2018-15287 Filed 7-17-18; 8:45 am]

BILLING CODE 4810-31-P